DEPARTMENT OF COMMERCE

National Oceanic and Atmospheric Administration

Agency Information Collection Activities; Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Applications and Reports for Registration as an Agent or Tanner.

OMB Control Number: 0648-0179.

Form Number(s): None.

Type of Request: Regular (extension of an existing collection).

Number of Respondents: 14.

Average Hours per Response: Annual report—2 hours per response; permit applications—2 hours per response.

Burden Hours: 42.

Needs and Uses: This request is for the extension of a currently approved information collection. The Marine Mammal Protection Act exempts Alaskan natives from the prohibitions on taking, killing, or injuring marine mammals if the taking is done for subsistence or for creating and selling authentic native articles of handicraft or clothing. The natives need no permit, but non-natives who wish to act as a tanner or agent for such native products must register with NOAA and maintain and submit certain records. The information is necessary for law enforcement purposes.

Affected Public: Business or other for-profit organizations; state, local or tribal government.

Frequency: Annually and on occasion.

Respondent's Obligation: Mandatory.

Legal Authority: US Code: 16 U.S.C. 1361 Name of Law: Marine Mammal Protection Act.

This information collection request may be viewed at reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0179.

Sheleen Dumas,
Department PRA Clearance Officer, Office of the Chief Information Officer, Commerce Department.

[FR Doc. 2020-09351 Filed 4-30-20; 8:45 am]

BILLING CODE 3510-22-P